DEPARTMENT OF HEALTH AND HUMAN SERVICES

National Institutes of Health

National Institute on Aging; Notice of Closed Meeting

Pursuant to section 1009 of the Federal Advisory Committee Act, as amended, notice is hereby given of a meeting of the Board of Scientific Counselors, NIA.

The meeting will be closed to the public as indicated below in accordance with the provisions set forth in sections 552b(c)(4) and 552b(c)(6), Title 5 U.S.C., as amended for the review, discussion, and evaluation of individual grant applications conducted by the National Institute On Aging, including consideration of personnel qualifications and performance, and the competence of individual investigators, the disclosure of which would constitute a clearly unwarranted invasion of personal privacy.

Name of Committee: Board of Scientific Counselors, NIA.

Date: October 28-30, 2025.

Time: October 28, 2025, 8:00 a.m. to 4:30 p.m.

Agenda: Executive Session; Board Business; Review of Labs and PI's; Adjournment.

Address: National Institutes of Health, 251 Bayview Boulevard, Baltimore, MD 21224 (Virtual Meeting).

Time: October 29, 2025, 8:00 a.m. to 4:30 p.m.

Agenda: Executive Session; Board Business; Adjournment.

Address: National Institutes of Health, 251 Bayview Boulevard, Baltimore, MD 21224 (Virtual Meeting).

Time: October 30, 2025, 8:00 a.m. to 2:00 p.m.

Agenda: Executive Session; Board Business; Adjournment.

Address: National Institutes of Health, 251 Bayview Boulevard, Baltimore, MD 21224 (Virtual Meeting).

Contact Person: Luigi Ferrucci, M.D., Ph.D., Scientific Director, National Institute of Aging, National Institutes of Health, 251 Bayview Boulevard, Suite 100, Room 4C225, Baltimore, MD 21224, 410-558-8110, LF27Z@NIH.GOV.

(Catalogue of Federal Domestic Assistance Program Nos. 93.866, Aging Research, National Institutes of Health, HHS)

Dated: April 24, 2025.
Bruce A. George,
Program Analyst, Office of Federal Advisory Committee Policy.

[FR Doc. 2025-07382 Filed 4-29-25; 8:45 am]

BILLING CODE 4140-01-P